DEPARTMENT OF EDUCATION

[CFDA No. 84.299B]

Indian Education Discretionary Grant Programs—Professional Development

AGENCY: Department of Education.

ACTION: Notice inviting applications for new awards for fiscal year (FY) 2000.

Purpose of the Program

The purposes of this program are to: (1) Increase the number of qualified Indian individuals in professions that serve Indian people; (2) provide training to qualified Indian individuals to become teachers, administrators, teacher aides, social workers, and ancillary educational personnel; and (3) improve the skills of qualified Indian individuals who serve in the capacities described in (2). Activities may include, but are not limited to, continuing programs, symposia, workshops, conferences, and direct financial support.

Grants for training educational personnel may be for preservice or inservice training. For individuals who are being trained to enter any field other than education, the training received must be in a program resulting in a graduate degree.

For FY 2000 the competition for new awards focuses on projects designed to meet the priority described in the PRIORITY section of this application notice.

Eligible Applicants

Eligible applicants for this program are institutions of higher education, including Indian institutions of higher education; State or local educational agencies, in consortium with institutions of higher education; and Indian tribes or organizations, in consortium with institutions of higher education. An application from a consortium of eligible entities must meet the requirements of 34 CFR 75.127 through 75.129. The consortium agreement must be submitted with the application. Letters of support do not meet the consortium requirements.

Deadline for Transmittal of Applications: May 31, 2000.

Deadline for Intergovernmental Review: July 31, 2000.

Applications Available:April 28, 2000.

Available Funds: $10,000,000.

Estimated Range of Awards: $175,000 to $500,000.

Estimated Average Size of Awards: $300,000.

Estimated Number of Awards: 30.

Project Period

Up to 24 months for projects that provide only in-service training, and up to 36 months for projects that provide pre-service training.

Note: The Department is not bound by any estimates in this notice.

Budget Requirement

All projects funded under this competition must budget for a two-day Project Directors' meeting in Washington, DC during each year of the project.

Maximum Annual Award Amount

In no case does the Secretary make an award greater than $500,000 for a single budget period of 12 months for the first 24 months of the award period. The last 12 months of a 36-month award will be limited to induction services only at a cost not to exceed $75,000 for the third 12-month budget period. The Secretary rejects and does not consider an application that proposes a budget exceeding these maximum amounts.

Page Limit

The application narrative Part III of the application) is where you, the applicant, addresses the selection criteria reviewers use to evaluate your application. You must limit Part III to the equivalent of no more than 75 pages, using the following standards:

• A “page” is 8.5″ x 11″, one side only, with 1″ margins at the top, bottom, and both sides.

• Double space (no more than three lines per vertical inch) all text in the application narrative, including titles, headings, footnotes, quotations, references, and captions, as well as all text in charts, tables, figures, and graphs.

• Use a font that is either 12-point font or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations

(a) The Education Department General Administrative Regulations (EDGAR) in 34 CFR parts 74, 75, 77, 79, 80, 81, 82, 85, 86, 97, 98, and 99; and (b) for the Professional Development Program, the payback provisions of 34 CFR 263.1(b), 263.3, and 263.35 through 263.37.

Absolute Priority

Under section 34 CFR 75.105 of EDGAR, the Secretary gives an absolute preference to applications that meet the priority selected. The Secretary reserves all of the funds available for new awards under the Professional Development program to fund only those applications that meet this absolute priority:

Pre-Service Training for Teachers —

Provide support and training to Indian individuals to complete a pre-service education program that:

(a) Enables individuals to meet the requirements for full state certification or licensure as a teacher through —

(i) Training that leads to a bachelor's degree in education within a two-year period; or

(ii) Training in a current or new specialized teaching assignment, that requires at least a bachelor's degree, in which a teacher shortage exists.

(b) Provides graduates of the pre-service program with one year of induction services while they are working in schools with significant Indian student populations.

Selection Criteria

The selection criteria are included in full in the application package for this competition. These selection criteria were established based on the regulations for evaluating discretionary grants found in 34 CFR 75.200 through 75.210.

Fiscal Information

Stipends may be paid only to full-time students. For the payment of stipends to project participants being trained, the Secretary expects to set the stipend maximum at $1250 per month for full-time students and $200 allowance per month per dependent during the academic year. The terms “stipend,” “full-time student,” and “dependent allowance” are defined in 34 CFR 263.3.

Competitive Preference

(1) The Secretary will award a total of five additional points to applications for programs that include only Indian individuals as training participants.

Authority: Section 9122(e)(2); 20 U.S.C. 7832(e)(2).

(2) The Secretary will award a total of five additional points to applications submitted by Indian tribes, Indian organizations, and Indian institutions of higher education. A consortium application of eligible entities that meets the requirements of 34 CFR 75.127 through 75.129 and includes an Indian tribe, Indian organization or Indian institution of higher education shall be considered eligible to receive the five additional priority points. Letters of support do not meet the consortium requirements.

Authority: 20 U.S.C. 7873.

(3) The Secretary will award a total of five additional points to applications submitted by a consortium of eligible applicants that include a tribal college or university and which designate that tribal college or university as the fiscal agent for the application. The consortium application of eligible entities must meet the requirements of 34 CFR 75.127 through 75.129 of EDGAR to be considered eligible to receive the five priority points. Letters of support do not meet the consortium requirements. These competitive preference points are in addition to the five competitive preference points that may be given under Competitive Priority 2—Preference for Indian Applicants.

Tribal colleges and universities are those institutions cited in section 532 of the Equity in Educational Land-Grant Status Act of 1994 (7 U.S.C. 301 note), any other institution that qualifies for funding under the Tribally Controlled College or University Assistance Act of 1978 (25 U.S.C. 1801 et seq.), and Navajo Community College, authorized in the Navajo Community College Assistance Act of 1978, Public Law 95-471, title II (25 U.S.C. 640a note).

Authority: Section 9153; 20 U.S.C. 7873; and 20 U.S.C. 1221e-3.

For Applications Contact

Education Publications Center (ED Pubs), P.O. Box 1398, Jessup, MD 20794-1398. Telephone (toll free): 1-877-433-7827. FAX: (301) 470-1244. If you use a telecommunications device for the deaf (TDD), you may call (toll free): 1-877-576-7734. You may also contact ED Pubs via its Web site (http://www.ed.gov/pubs/edpubs.html) or its E-mail address (edpubs@inet.ed.gov). If you request an application from ED Pubs, be sure to identify this competition as follows: CFDA number 84.299B.

FOR FURTHER INFORMATION CONTACT: Cathie Martin, Office of Indian Education, U.S. Department of Education, 400 Maryland Avenue, SW., Room 3W111, Washington, DC 20202-6335. Telephone: (202) 260-1683. Internet address: Cathie_Martin@ed.gov

Individuals who use a telecommunications device for the deaf (TDD), may call the Federal Information Relay Service (FIRS) at 1-800-877-8339.

Individuals with disabilities may obtain a copy of the application package in an alternative format (e.g., Braille, large print, audiotape, or computer diskette) on request to the contact person listed in the preceding paragraph.

Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (pdf) on the Internet at either of the following sites:

http://ocfo.ed.gov/fedreg.htm

http://www.ed.gov/news.html

To use the PDF you must have the Adobe Acrobat Reader Program, which is available free at either of the previous sites. If you have questions about using the PDF, call the U.S. Government Printing Office, toll free, at 1-888-293-6498; or in the Washington, DC, area at (202) 512-1530.

Note: The official version of this document is published in the Federal Register. Free Internet access to the official edition of the Federal Register and the Code of Federal Regulations is available on GPO Access at: http://www.access.gpo.gov/nara/index.html

Program Authority: 20 U.S.C. 7832.

Dated: April 24, 2000.
Michael Cohen,
Assistant Secretary for Elementary and Secondary Education.

[FR Doc. 00-10645 Filed 4-27-00; 8:45 am]

BILLING CODE 4000-01-U